CONSUMER PRODUCT SAFETY COMMISSION

[Docket No. CPSC-2012-0024]

Agency Information Collection Activities; Submission for OMB Review; Comment Request; Notification Requirements for Coal and Wood Burning Appliances

AGENCY: Consumer Product Safety Commission.

ACTION: Notice.

SUMMARY: As required by the Paperwork Reduction Act of 1995, the Consumer Product Safety Commission (CPSC or Commission) announces that the Commission has submitted to the Office of Management and Budget (OMB) a request for extension of approval for information collection requirements regarding notification requirements for coal and wood burning appliances. OMB previously approved the collection of information under OMB Control No. 3041-0040. On December 10, 2021, CPSC published a notice in the Federal Register to announce the agency's intention to seek extension of approval of the collection of information. The Commission received no comments. Therefore, by publication of this notice, the Commission announces that CPSC has submitted to the OMB a request for extension of approval of this collection of information.

DATES: Submit written or electronic comments on the collection of information by March 18, 2022.

ADDRESSES: Written comments and recommendations for the proposed information collection should be sent within 30 days of publication of this notice to: www.reginfo.gov/public/do/PRAMain. Find this particular information collection by selecting “Currently under 30-day Review—Open for Public Comments” or by using the search function. In addition, written comments that are sent to OMB also should be submitted electronically at: http://www.regulations.gov, under Docket No. CPSC-2012-0024.

FOR FURTHER INFORMATION CONTACT: Cynthia Gillham, Consumer Product Safety Commission, 4330 East-West Highway, Bethesda, MD 20814; (301) 504-7991, or by email to: cgillham@cpsc.gov.

SUPPLEMENTARY INFORMATION: On December 10, 2021, CPSC published a notice in the Federal Register to announce the agency's intention to seek extension of approval of the collection of information. 86 FR 70475. The Commission received no comments. Accordingly, CPSC seeks renewal approval for the following collection of information:

Title: Notification Requirements for Coal and Wood Burning Appliances.

OMB Number: 3041-0040.

Type of Review: Renewal of collection.

Frequency of Response: On occasion.

Affected Public: Manufacturers and importers of coal and wood burning appliances.

Estimated Number of Respondents: An estimated five submissions annually.

Estimated Time per Response: Three hours per submission and 30 minutes for collecting and mailing the information to the CPSC.

Total Estimated Annual Burden: 17.5 hours (5 submissions × 3.5 hours).

Total Estimated Annual Cost to Respondents: $1,238, based on an average total hourly employee compensation rate of $70.73 for management, professional, and related occupations (Bureau of Labor Statistics: Total compensation rates for management, professional, and related occupations in private goods-producing industries, Table 4, March 2021) (17.5 hours × $70.73).

General Description of Collection: 16 CFR part 1406, Coal and Wood Burning Appliances—Notification of Performance and Technical Data requires that manufacturers and importers provide consumers with written notification regarding certain technical and performance information related to safety on each coal and wood burning appliance. Manufacturers are also required to provide to the CPSC a copy of the notification to consumers and an explanation of all clearance distances contained in the notification. For existing models, all known manufacturers are believed to have already satisfied the requirements. Accordingly, there is no new burden associated with the requirements of 16 CFR part 1406, except in cases where existing models are changed, or new models are introduced. Fewer than five submissions are estimated annually from new stove models coming into the market, or new firms entering the market.

Alberta E. Mills,
Secretary, Consumer Product Safety Commission.

[FR Doc. 2022-03325 Filed 2-15-22; 8:45 am]

BILLING CODE 6355-01-P